DEPARTMENT OF TRANSPORTATION

Federal Aviation Administration

Notice of Availability of the Tiered Environmental Assessment for Updates to Airspace Closures for the Flight 9 Mission Profile of the SpaceX Starship-Super Heavy Vehicle at the SpaceX Boca Chica Launch Site in Cameron County, Texas

AGENCY: Federal Aviation Administration (FAA), Department of Transportation (DOT).

ACTION: Notice of availability.

SUMMARY: The FAA is announcing the availability of the Tiered Environmental Assessment (Tiered EA) and Finding of No Significant Impact/Record of Decision (FONSI/ROD) for Updates to Airspace Closures for the Flight 9 Mission Profile of the SpaceX Starship-Super Heavy Vehicle at the SpaceX Boca Chica Launch Site in Cameron County, Texas. (Tiered EA FONSI/ROD).

SUPPLEMENTARY INFORMATION: The Tiered Environmental Assessment for Updates to Airspace Closures for the Flight 9 Mission Profile of the SpaceX Starship-Super Heavy Vehicle at the SpaceX Boca Chica Launch Site in Cameron County, Texas tiers from the 2022 Final PEA and April 2025 Tiered EA and is evaluating the updates to the Aircraft Hazard Area and Notice to Airmen for SpaceX's operation of the Starship-Super Heavy launch program at the Boca Chica vertical launch area (VLA) in Cameron County, Texas. SpaceX must obtain a new license or modification of its existing vehicle operator license from the FAA to operate the Starship-Super Heavy Flight 9 mission profile. The federal action also includes the FAA's issuance of temporary airspace closures. Based on the safety analysis for Starship-Super Heavy Flight 9, an Aircraft Hazard Area and associated Notice to Airmen would necessitate FAA to close airspace over a portion of the Bahamas and the Turks & Caicos Islands. Starship-Super Heavy Flight 9 will impact air routes extending eastward from the Boca Chica launch site through the Straits of Florida, covering approximately 1,600 nautical miles. The designated Aircraft Hazard Area will necessitate the closure of more than 70 airways (established aircraft routes) across the Gulf of America and now, due to vehicle reliability, include the Lucayan Archipelago (Bahamas and Turks & Caicos Islands). Bahamas and Turks & Caicos are expected to close their respective airspace up to 6,000 feet and FAA will close the airspace above that. This is an update to the existing operations involving the Starship-Super Heavy described in the April 2025 Tiered EA.

The FAA has posted the Tiered EA and FONSI/ROD on the FAA Office of Commercial Space Transportation website: https://www.faa.gov/space/stakeholder_engagement/spacex_starship/.

Issued in Washington, DC, on: May 15, 2025.
Stacey Molinich Zee,
Manager, Operations Support Branch.

[FR Doc. 2025-09079 Filed 5-20-25; 8:45 am]

BILLING CODE 4910-13-P